DEPARTMENT OF THE INTERIOR

Minerals Management Service

Notice of Preparation of a Programmatic Environmental Assessment for Structure Removal Operations in the Gulf of Mexico (2003)

AGENCY: Minerals Management Service, Interior.

ACTION: Preparation of a programmatic environmental assessment.

SUMMARY: The Minerals Management Service (MMS) will prepare a programmatic environmental assessment (PEA) to assess the potential impacts of explosive and nonexplosive structure removal operations in the Gulf of Mexico. Preparation of the PEA is an important step in the decision process for future permitting for the removal of offshore structures and for further consultation and coordination with other Federal agencies.

FOR FURTHER INFORMATION CONTACT: Minerals Management Service, Gulf of Mexico OCS Region, 1201 Elmwood Park Boulevard, New Orleans, Louisiana 70123-2394, Mr. T.J. Broussard, telephone (504) 736-3245.

SUPPLEMENTARY INFORMATION: The PEA will focus on the decommissioning activities related to the explosive and non-explosive severing of seafloor obstructions and facilities (e.g., wellheads, caissons, conductors, platforms, mooring devices) and the subsequent salvage operations that may be employed. The PEA will examine the potential impacts of structure removal operations on marine and socioeconomic environments. The geographic area of the proposed action includes all water depths of the Central and Western Planning Areas and the 256-block area currently available for leasing in the Eastern Planning Area. The PEA will be used as part of the rulemaking process by the National Oceanographic and Atmospheric Administration for incidental take regulations under Subpart I of the Marine Mammal Protection Act and to initiate consultation for explosive, structure removal operations under Section 7 of the Endangered Species Act. Topics of primary concern to be addressed in the PEA include removal technologies, industry needs related to water depth and location, and the potential impacts of structure removal operations on marine and socioeconomic environments.

Public Comments: The MMS requests that affected and/or interested parties submit their comments regarding any information or issues that should be addressed in the PEA to the Minerals Management Service, Gulf of Mexico OCS Region, Office of Leasing and Environment, Attention: Regional Supervisor (MS 5410), 1201 Elmwood Park Boulevard, New Orleans, Louisiana 70123-2394. Comments should be enclosed in an envelope labeled “Comments on the Structure Removal Operations PEA.” You may also comment by e-mail to environment@mms.gov. Our practice is to make comments, including names and home addresses of respondents, available for public review during regular business hours. Individual respondents may request that we withhold their home address from the rulemaking record, which we will honor to the extent allowable by law. If you wish us to withhold your name and/or address, you must state this prominently at the beginning of your comment. However, we will not consider anonymous comments. We will make all submissions from organizations or businesses, and from individuals identifying themselves as representatives or officials of organizations or businesses, available for public inspection in their entirety. Comments must be submitted no later than 30 days from the date of publication of this Notice in the Federal Register.

Dated: March 25, 2003.
Chris C. Oynes,
Regional Director, Gulf of Mexico OCS Region.

[FR Doc. 03-9330 Filed 4-15-03; 8:45 am]

BILLING CODE 4310-MR-P